DEPARTMENT OF LABOR

Employment and Training Administration

[TA-W-52,504]

Wirco Castings, Inc., New Athens, Illinois; Notice of Termination of Investigation

Pursuant to section 221 of the Trade Act of 1974, as amended, an investigation was initiated on August 11, 2003, in response to a petition filed on behalf of workers at Wirco Castings, Inc., New Athens, Illinois.

The petitioner has requested that the petition be withdrawn. Consequently, the investigation has been terminated.

Signed at Washington, DC, this 9th day of September, 2003.
Richard Church,
Certifying Officer, Division of Trade Adjustment Assistance.

[FR Doc. 03-25725 Filed 10-9-03; 8:45 am]

BILLING CODE 4510-30-P